DEPARTMENT OF LABOR

Employment and Training Administration

[TA-W-64,764]

Intalco Aluminum Corporation, Global Primary Products—US Division, A Subsidiary of Alcoa, Inc., Including On-Site Leased Workers From Icon Information Consultants, Manpower, GCA, Total-Western, Machinery Installation and Maintenance, 7 Sisters, Bills Electric, Blythe, Bayside, Berry Acres, Veolia, Erm, Fluor, Ej Bartells, NW Communication, Ferndale, WA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 30, 2009, applicable to workers of Intalco Aluminum Corporation, Global Primary Products—US Division, a subsidiary of Alcoa, Inc., Ferndale, Washington. The notice was published in the Federal Register on February 23, 2009 (74 FR 8115).

At the request of the State agency, the Department reviewed the certification for workers of the subject firm. The workers are engaged in the production of primary aluminum products such as billet, foundry, tees, and standards.

New information provided by the company shows that workers leased from Icon Information Consultants, Manpower, GCA, Total-Western, Machinery Installation and Maintenance, 7 Sisters, Mills Electric, Blythe, Bayside, Berry Acres, Veolia, ERM, Fluor, EJ Bartells, and NW Communication were employed on-site at Intalco Aluminum Corporation, Global Primary Products—US Division, a subsidiary of Alcoa, Inc., Ferndale, Washington.

The intent of the Department's certification is to include all workers at the subject firm who were adversely affected by supplying component parts to a previously certified primary firm.

The Department has determined that these workers were sufficiently under the control of Intalco Aluminum Corporation to be considered leased workers.

Based on these findings, the Department is amending this certification to include workers leased from Icon Information Consultants, Manpower, GCA, Total-Western, Machinery Installation and Maintenance, 7 Sisters, Mills Electric, Blythe, Bayside, Berry Acres, Veolia, ERM, Fluor, EJ Bartells, and NW Communication, working on-site at the Ferndale, Washington location of the subject firm.

The amended notice applicable to TA-W-64,764 is hereby issued as follows:

All workers of Intalco Aluminum Corporation, Global Primary Products—US Division, a subsidiary of Alcoa, Inc., Ferndale, Washington, including on-site leased workers from Icon Information Consultants, Manpower, GCA, Total-Western, Machinery Installation and Maintenance, 7 Sisters, Mills Electric, Blythe, Bayside, Berry Acres, Veolia, ERM, Fluor, EJ Bartells, and NW Communication, who became totally or partially separated from employment on or after December 15, 2007 through January 30, 2011, are eligible to apply for adjustment assistance under Section 223 of the Trade Act of 1974, and are also eligible to apply for alternative trade adjustment assistance under Section 246 of the Trade Act of 1974.

Signed in Washington, DC, this 31st day of March 2009.
Linda G. Poole,
Certifying Officer, Division of Trade Adjustment Assistance.

[FR Doc. E9-7802 Filed 4-6-09; 8:45 am]

BILLING CODE 4510-FN-P